DEPARTMENT OF THE INTERIOR

Bureau of Land Management

[AZ-P040-2017-1711-PH-1000-241A 14X.LLAZP04000.L1711.PH0000]

Notice of Availability of the Record of Decision for the Approved Resource Management Plan Amendment/Environmental Impact Statement for Recreational Target Shooting in the Sonoran Desert National Monument, Arizona

AGENCY: Bureau of Land Management, Interior.

ACTION: Notice of availability.

SUMMARY: The Bureau of Land Management (BLM) announces the availability of the Record of Decision (ROD) for the approved Resource Management Plan (RMP) Amendment/Environmental Impact Statement (EIS) for Recreational Target Shooting in the Sonoran Desert National Monument (SDNM) in Arizona.

DATES: This decision became operative on March 5, 2018.

ADDRESSES: The complete text of the ROD, along with the EIS and supporting documents, is available on the BLM website at https://go.usa.gov/xnFJm. Copies of the ROD for Recreational Target Shooting in the SDNM have been sent to affected Federal, State, and local government agencies and to other stakeholders, and are available for public inspection at Lower Sonoran Field Office 21605 North 7th Avenue, Phoenix, Arizona 85027.

FOR FURTHER INFORMATION CONTACT: Darrel Wayne Monger, Monument Manager, telephone: 623-580-5683; address: Lower Sonoran Field Office, 21605 North 7th Avenue, Phoenix, Arizona 85027; email: blm_az_sdnmtargetshooting@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The planning area covers nearly 496,400 surface acres of south-central Arizona and lies within Maricopa and Pinal Counties. Population centers adjacent to the planning area include metropolitan Phoenix, and the communities of Ajo, Goodyear, Buckeye, Gila Bend, Mobile, and Maricopa. The planning area encompasses Federal- and State-administered lands as well as private lands. The BLM's authority is limited to BLM-managed public lands and federally-owned minerals within the planning area. The BLM manages 486,400 surface acres of public lands in the planning area, as well as 461,000 acres of (sub-surface) mineral estate. The State of Arizona manages 3,900 surface acres in the planning area, with the remaining 6,100 surface acres being privately owned land.

The BLM prepared the Proposed RMP Amendment/Final EIS to address management of recreational target shooting in the SDNM. The Proposed RMP Amendment/Final EIS was required to analyze recreational target shooting in the SDNM due to a ruling by the U.S. District Court-District of Arizona that vacated portions of the 2012 ROD, Approved RMP, and Final EIS related to recreational target shooting throughout the SDNM, and remanded the decision to the BLM for reconsideration. The Court also required the BLM to ensure the Final EIS analyzed mitigation measures and cumulative impacts consistent with the order, with a deadline of March 5, 2018, to issue the ROD. The BLM Arizona State Director signed the ROD on March 5, 2018.

The Proposed RMP Amendment/Final EIS evaluated five alternatives in detail, including the No Action Alternative (Alternative A) and four action alternatives (Alternatives B, C, D, and E), based on public input and on analysis of the impacts of each of the alternatives. The five alternatives ranged from making the entire monument available for target shooting to making the entire monument unavailable for target shooting. All alternatives required compliance with a hierarchy of mitigation that includes: (1) Avoiding impacts to the maximum extent compatible with the goals of the alternative; (2) Minimizing any impacts that are not avoidable; and (3) Providing a range of responses commensurate with the level of unavoidable impacts. Alternative C was the BLM's proposed amendment. The Proposed RMP Amendment and Final EIS were published in the Federal Register on October 20, 2017 (84 FR 48847).

As a result of continued work with stakeholders and in response to comments from the public and cooperating agencies, the BLM determined that approximately 2,600 acres of additional land in the area is suitable for recreational target shooting. As such, the ROD approves a modified version of Alternative C, which identifies approximately 435,700 acres of land as available for recreational target shooting in the SDNM. The additional approximately 2,600 acres are located along the northern boundary of the SDNM within the Juan Bautista de Anza Recreation Management Zone, and were analyzed in Alternative A as available for recreational target shooting.

During the 30-day protest period, the BLM Director received five protest letters. All protests were resolved prior to issuance of the ROD.

No comments regarding potential inconsistencies with State and local plans, programs, and policies were received from the Governor's Office during the Governor's Consistency Review process.

(Authority: 40 CFR 1506.6, 40 CFR 1506.10, 43 CFR 1610.2, 43 CFR 1610.5)

Edward J. Kender,
Field Manager, Lower Sonoran Field Office.

[FR Doc. 2018-17877 Filed 8-17-18; 8:45 am]

BILLING CODE 4310-32-P